DEPARTMENT OF HOMELAND SECURITY

Federal Emergency Management Agency

44 CFR Part 67

Docket ID FEMA-2010-0003; Internal Agency Docket No. FEMA-B-1159]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before March 16, 2011.

ADDRESSES: The corresponding preliminary Flood Insurance Rate Map (FIRM) for the proposed BFEs for each community is available for inspection at the community's map repository. The respective addresses are listed in the table below.

You may submit comments, identified by Docket No. FEMA-B-1159, to Luis Rodriguez, Chief, Engineering Management Branch, Federal Insurance and Mitigation Administration, Federal Emergency Management Agency, 500 C Street SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ∧ Elevation in meters (MSL): Effective | * Elevation in feet (NGVD) + Elevation in feet (NAVD) # Depth in feet above ground ∧ Elevation in meters (MSL): Modified | Communities affected
Coahoma County, Mississippi, and Incorporated Areas
Mill Creek | Approximately 200 feet upstream of North Desoto Avenue | None | +157 | City of Clarksdale, Town of Lyon.
| Approximately 650 feet upstream of Barkley Road | None | +162
Moore Bayou | Approximately 0.72 mile downstream of Coldwater Road | +171 | +170 | Town of Jonestown, Unincorporated Areas of Coahoma County.
| Approximately 0.57 mile upstream of Coldwater Road | None | +170
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Clarksdale
Maps are available for inspection at City Hall, 115 1st Street, Clarksdale, MS 38614.
Town of Jonestown
Maps are available for inspection at the Town Hall, 219 Main Street, Jonestown, MS 38639.
Town of Lyon
Maps are available for inspection at the Town Hall, 111 Park Street, Lyon, MS 39645.
Unincorporated Areas of Coahoma County
Maps are available for inspection at the Coahoma County Courthouse, 121 Sunflower Avenue, Clarksdale, MS 38614.
Holmes County, Mississippi, and Incorporated Areas
Yazoo River | Approximately 12 miles downstream of County Road 511 | None | +121 | Town of Cruger, Unincorporated Areas of Holmes County.
| Approximately 6.5 miles downstream of County Road 511 | None | +123
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Cruger
Maps are available for inspection at Town Hall, 225 Railroad Street, Cruger, MS 38924.
Unincorporated Areas of Holmes County
Maps are available for inspection at the Holmes Courthouse, 300 Yazoo Street, Lexington, MS 39095.
Humphreys County, Mississippi, and Incorporated Areas
Shallow Flooding | An area bounded by the county boundary to the west and south, the William M. Whittington Channel Levee to the east, and the confluence with Silver Creek and Straight Bayou to the north | None | +100 | Unincorporated Areas of Humphreys County.
Yazoo River | Approximately 10 miles upstream of State Highway 12 | None | +117 | Unincorporated Areas of Humphreys County.
| Approximately 19.5 miles upstream of State Highway 12 | None | +120
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Humphreys County
Maps are available for inspection at 102 Castleman Street, Belzoni, MS 39038.
Issaquena County, Mississippi, and Incorporated Areas
Mississippi River | Approximately 5.3 miles upstream of U.S. Route 80 Bridge | None | +112 | Unincorporated Areas of Issaquena County.
| Approximately 9.3 miles upstream of U.S. Route 80 Bridge | None | +120
Steele Bayou | An area bounded by the county boundary to the north, west, south, and east | None | +100 | Town of Mayersville, Unincorporated Areas of Issaquena County.
Yazoo River | Approximately 6 miles downstream of U.S. Route 61 | None | +105 | Unincorporated Areas of Issaquena County.
| Approximately 12 miles upstream of U.S. Route 61 | None | +105
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Mayersville
Maps are available for inspection at 132 Court Street, Mayersville, MS 39113.
Unincorporated Areas of Issaquena County
Maps are available for inspection at 129 Court Street, Mayersville, MS 39113.
Sharkey County, Mississippi, and Incorporated Areas
Deer Creek | Approximately 9.8 miles upstream of the confluence with Rolling Fork Creek | None | +103 | Town of Anguilla, Unincorporated Areas of Sharkey County.
| Approximately 10.8 miles upstream of the confluence with Rolling Fork Creek | None | +103
Steele Bayou | An area bounded by the county boundary to the north, west, south, and east; approximately 3 miles south of the northern county boundary | None | +100 | City of Rolling Fork, Town of Anguilla, Town of Cary, Unincorporated Areas of Sharkey County.
Yazoo River | At the county boundary | None | +105 | Unincorporated Areas of Sharkey County.
| Approximately 300 feet upstream of the county boundary | None | +105
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Rolling Fork
Maps are available for inspection at 130 Walnut Street, Rolling Fork, MS 39159.
Town of Anguilla
Maps are available for inspection at 22 Rolling Fork Road, Anguilla, MS 38924.
Town of Cary
Maps are available for inspection at 30 Oak Circle, Cary, MS 39054.
Unincorporated Areas of Sharkey County
Maps are available for inspection at 120 Locust Street, Rolling Fork, MS 39159.
Washington County, Mississippi, and Incorporated Areas
Steele Bayou Control Structure | An area bounded by the county boundary to the south and east, State Highway 436 to the north, and West Side Lake Washington Road to the west | None | +100 | Unincorporated Areas of Washington County.
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Washington County
Maps are available for inspection at the Washington County Courthouse, 900 Washington Avenue, Greenville, MS 38701.
Yazoo County, Mississippi, and Incorporated Areas
Big Black River | Approximately 21.9 miles downstream of U.S. Route 49 | None | +149 | Unincorporated Areas of Yazoo County.
| Approximately 10.7 miles downstream of U.S. Route 49 | None | +155
Collins Creek | An area bounded by the Yazoo River Levee to the north and west, State Highway 3 to the south, and Germania Road to the east | None | +93 | Unincorporated Areas of Yazoo County.
Satartia Creek (backwater effects from Mississippi River) | Approximately 0.75 mile downstream of State Highway 3 | None | +105 | Unincorporated Areas of Yazoo County.
| Approximately 1,900 feet downstream of State Highway 3 | None | +105
Steele Bayou | An area bounded by the county boundary to the north, west, and south, and the William M. Whittington Canal Levee to the east | None | +100 | Unincorporated Areas of Yazoo County.
Yazoo River (backwater effects from Mississippi River) | Approximately 21 miles downstream of Satartia Road | None | +105 | Unincorporated Areas of Yazoo County.
| Approximately 15 miles downstream of Satartia Road | None | +105
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Yazoo County
Maps are available for inspection at 211 East Broadway Street, Yazoo City, MS 39194.

(Catalog of Federal Domestic Assistance No. 97.022, “Flood Insurance.”)

Dated: December 3, 2010.
Sandra K. Knight,
Deputy Federal Insurance and Mitigation Administrator, Mitigation, Department of Homeland Security, Federal Emergency Management Agency.

[FR Doc. 2010-31546 Filed 12-15-10; 8:45 am]

BILLING CODE 9110-12-P